DEPARTMENT OF ENERGY

DOE/NSF Nuclear Science Advisory Committee

AGENCY: Department of Energy, Office of Science.

ACTION: Notice of Open Meeting.

SUMMARY: This notice announces a meeting of the DOE/NSF Nuclear Science Advisory Committee (NSAC). The Federal Advisory Committee Act (Pub. L. 92-463, 86 Stat. 770) requires that public notice of these meetings be announced in the Federal Register.

DATES: Thursday, June 30, 2011, 8:30 a.m.-5 p.m.; Friday, July 1, 2011, 8:30 a.m.-11:30 p.m.

ADDRESSES: Crystal City Marriott at Reagan National Airport, 1999 Jefferson Davis Highway, Arlington, Virginia 22202, 703-413-5500.

FOR FURTHER INFORMATION CONTACT: Brenda L. May, U.S. Department of Energy; SC-26/Germantown Building, 1000 Independence Avenue, SW., Washington, DC 20585-1290; Telephone: (301) 903-0536.

SUPPLEMENTARY INFORMATION:

Purpose of the Committee: The purpose of NSAC is to provide advice and recommendations to the Department of Energy and the National Science Foundation on scientific priorities within the field of basic nuclear science research.

Tentative Agenda: Agenda will include discussions of the following:

Thursday, June 30, 2011

• Perspectives from Department of Energy and National Science Foundation.

• Update from the Department of Energy and National Science Foundation's Nuclear Physics Offices.

• Presentation of the Neutron Charge Subcommittee Report and Recommendation.

• Presentation of the Public Access to Research Results Report and Recommendation.

• Discussion and Approval of the Public Access to Research Results Report.

• Discussion of the Neutron Charge Report.

• Public Comment Period.

Friday, July 1, 2011

• Report from the Underground Science Committee.

• Further Discussion on the Neutron Recommendations.

• Public Comment (10-minute rule).

Public Participation: The meeting is open to the public. If you would like to file a written statement with the Committee, you may do so either before or after the meeting. Individuals who wish to make oral statements pertaining to the agenda should contact Brenda L. May at (301) 903-0536 or by e-mail at: Brenda.May@science.doe.gov. Requests must be received five days prior to the meeting and reasonable provision will be made to include the presentation in the agenda. The Chairperson is empowered to conduct the meeting in a fashion that will facilitate the orderly conduct of business. Time allotted for individuals wishing to make public comments will depend on the number of individuals who wish to speak, but will not exceed 10 minutes.

Minutes: The minutes of the meeting will be available for viewing within 60 days on the Committee's Web site: http://science.energy.gov/np/nsac/.

Issued at Washington, DC on May 26, 2011.
LaTanya R. Butler,
Acting Deputy Committee Management Officer.

[FR Doc. 2011-13685 Filed 6-1-11; 8:45 am]

BILLING CODE 6450-01-P